DEPARTMENT OF HEALTH AND HUMAN SERVICES

Centers for Disease Control and Prevention

[60Day-03-67]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Evaluating the Effectiveness of the Asthma Intervention Program, Power Breathing—New—National Center for Environmental Health (NCEH), Centers for Disease Control and Prevention (CDC).

Background

The Centers for Disease Control and Prevention (CDC) seeks to conduct an evaluation of the effectiveness of the asthma intervention program, Power Breathing, in two school districts in Kansas City, KS and Fredericksburg, VA. The overall aim of this program, developed by the Asthma and Allergy Foundation of America, is to provide adolescents with a basic understanding of asthma and its management in a peer-friendly environment and to empower them to take control of their asthma on a personal level. The proposed data collection for the evaluation will provide feedback to CDC about the usefulness and cost-effectiveness of this teen asthma intervention program. Sample participants will come from students, parents, program facilitators, and school personnel (school nurses and teachers) in the selected two school districts. Self-administered questionnaires will be given to students at baseline (pre-intervention program), immediately post-program, and at 6-months post-program, while parents receive baseline and 6-month post-program surveys. The student survey will focus on: knowledge, attitudes, and behaviors regarding their asthma; perception of their health status and quality of life; assessment of the program; and impact of the program on their asthma management skills. Parents will be asked about their child's asthma condition, assessment of the program, and cost-related issues for their child's asthma. Individual, one-time interviews will be conducted with program facilitators and school personnel regarding their perceptions of the intervention program and its impact on the students. Two focus groups will be conducted with students post-program to obtain additional, in-depth information about their perceptions of the program.

Respondents | Number of respondents | Number of responses/ respondent | Average burden/response (in hrs.) | Total burden (in hrs.)
Students:
Baseline | 524 | 1 | 30/60 | 262
Post-program | 524 | 1 | 15/60 | 131
6-month follow-up | 524 | 1 | 30/60 | 262
Focus group | 16 | 1 | 1 | 16
Parents:
Baseline | 524 | 1 | 10/60 | 87
6-month follow-up | 524 | 1 | 15/60 | 131
Program facilitators:
Interview | 6 | 1 | 40/60 | 4
Program sessions | 6 | 12 | 30/60 | 36
School nurses:
School profile | 6 | 1 | 10/60 | 1
Record abstraction | 6 | 87 | 10/60 | 87
Interview | 6 | 1 | 40/60 | 4
Teachers Interview | 12 | 1 | 40/60 | 8
Total |  |  |  | 1029

Dated: May 13, 2003.
Thomas Bartenfeld,
Acting Associate Director for Policy, Planning and Evaluation, Centers for Disease Control and Prevention.

[FR Doc. 03-12535 Filed 5-19-03; 8:45 am]

BILLING CODE 4163-18-P